SMALL BUSINESS ADMINISTRATION

Committee Member Nominations Sought Notice; Advisory Committee on Veterans Business Affairs

AGENCY: U.S. Small Business Administration.

ACTION: Notice of open nominations for veteran small business owners and veteran service organization representatives for the Advisory Committee on Veterans Business Affairs and the Interagency Task Force on Veterans Small Business Development.

SUMMARY: The U.S. Small Business Administration seeks member nominations from veteran owned small businesses and veteran service organizations to serve on the Advisory Committee on Veterans Business Affairs and member nominations from veteran service organizations and military service organizations to serve on the Interagency Task Force for Veterans Small Business Development.

DATES: Nomination applications due by 11:59 p.m. (EST), December 15, 2017.

ADDRESSES: Send nominations to veteransbusiness@sba.gov.

SUPPLEMENTARY INFORMATION: The U.S. Small Business Administration (SBA) seeks member nominations from veteran owned small businesses and veteran service organizations (VSO) to serve on the Advisory Committee on Veterans Business Affairs (ACVBA). The SBA also seeks member nominations from two VSO or Military Service Organizations (MSO) to serve on the Interagency Task Force for Veterans Small Business Development (IATF).

Additional Information: Nominations of eligible representatives must be sent via email to veteransbusiness@sba.gov. The submission deadline for nominations is December 15, 2017. Submissions should include the following information:

• Name and contact information of the individual

• Name and contact information of represented organization

• Federal Committee that nominee is interested in serving on, stated clearly

• If VSO or MSO nomination, include a description of how the organization supports veteran and service-disabled owned small business issues

• If nominee is a member of a local chapter of VSO, a national-level endorsement letter from the VSO is required

The SBA Administrator will appoint individuals who will serve on the ACVBA for a period of three years and, on the IATF, for a period of two years.

The Veterans Entrepreneurship and Small Business Development Act of 1999—Public Law 106-50—established the ACVBA to serve as an independent source of advice and policy recommendations on veteran owned small business opportunities. Through an annual report, the ACVBA reports to the SBA Administrator, SBA's Associate Administrator for Veterans Business Development, the Congress, the President, and other U.S. policy makers. The ACVBA is comprised of 15 members—eight members represent veteran owned small business and seven members represent veteran service or military organizations.

The Interagency Task Force for Small Business Development (Task Force) was established February 14, 2008 by Public Law 110-186 and executed by Executive Order. The Task Force is chaired by the SBA and is comprised of representatives appointed by SBA's Administrator from: SBA's Office of Veterans Business Development (OVBD), the Department of Defense (DoD), the Department of Labor (DOL), the Department of Treasury (Treasury), the Department of Veterans Affairs (DVA), the General Services Administration (GSA), the Office of Management and Budget (OMB), and four representatives from veterans service organizations and/or military service organizations.

Additional information for the ACVBA and IATF and SBA resources for veteran owned small business is located at www.sba.gov/ovbd. On Aug. 13, 2014, the Office of Management and Budget (OMB) published revised guidance, in the Federal Register, on individuals who are not eligible to serve on federal advisory committees. In accordance with OMB guidance, the President directed agencies and departments in the Executive Branch not to appoint or re-appoint federally registered lobbyists to advisory committees and other boards and commissions.

Dated: November 21, 2017.
Richard W. Kingan,
SBA Committee Management Officer.

[FR Doc. 2017-25629 Filed 11-27-17; 8:45 am]

BILLING CODE P